DEPARTMENT OF ENERGY

Office of Arms Control and Nonproliferation; Proposed Subsequent Arrangement

AGENCY: Department of Energy.

ACTION: Subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Concerning Civil Uses of Atomic Energy between the United States and Norway.

This subsequent arrangement concerns the retransfer of five irradiated fuel rods containing a total of 7,448 grams of U.S.-origin uranium, 76 grams of which is U-235, and 85 grams of U.S.-origin plutonium, from the Euratom Supply Agency to the Government of Norway for neutron radiography examination. The specified material is currently located at Studsvik Nuclear AB, Nykoping, Sweden and will, upon approval, be transferred to the Institut for Energiteknikk (IFE), Halden, Norway. IFE Halden is a research institute within the fields of nuclear technology, man-machine communication, and energy technology. After neutron radiography examination in Norway, IFE Halden will return the material to Studsvik Nuclear for final disposal. Studsvik originally obtained the material from Exelon Generation Company under the U.S. export license XSNM03408.

In accordance with Section 131 of the Atomic Energy Act of 1954, as amended, we have determined that this subsequent arrangement will not be inimical to the common defense and security.

This subsequent arrangement will take effect no sooner than fifteen days after the date of publication of this notice.

For the Department of Energy.
Richard S. Goorevich,
Director, Office of International Regimes and Agreements.

[FR Doc. E6-913 Filed 1-24-06; 8:45 am]

BILLING CODE 6450-01-P